DEPARTMENT OF JUSTICE

National Institute of Corrections

Solicitation for a Cooperative Agreement: Resources for NIC's Web Site on Data Collection and Analysis in Corrections

AGENCY: National Institute of Corrections, U.S. Department of Justice.

ACTION: Solicitation for a cooperative agreement.

SUMMARY: The National Institute of Corrections (NIC) is seeking applications for the development of resources for NIC's Web site on data collection and analysis for corrections. The resource materials will include, but are not limited to, documents or other information sources (i.e. spreadsheets, Web sites) that provide examples of policy and procedure governing information management; information on effective practices in developing or acquiring automated information management systems; and an overview of current information technology in corrections. NIC currently has some content under development on its Web site at http://nicic.gov/informationtechnolgy.

The Web site resources will also include small data applications that provide users the capability for data analysis and interpretation and short tutorials on how to download and use the applications provided. The Web site applications, after initial development, deployment, and testing, will be maintained by NIC.

The project will be for a 12-month period and will be carried out in conjunction with the NIC Jails Division who will confer as needed with Prisons and Community Corrections Services Division staff. The awardee will work closely with NIC staff on all aspects of the project. To be considered, the applicant team collectively must have, at a minimum, (1) in-depth knowledge of the purpose, functions, and operational complexities of corrections (2) in-depth knowledge of the full range of decisions corrections administrators must make to manage corrections populations/clients and operations, (3) in-depth knowledge of the types of data needed to inform these decisions, (4) expertise and experience in identifying, collecting, and analyzing these data, (5) expertise and experience in developing and managing information systems, (6) experience in developing Web page content, development of statistical and assessment applications using standard html and java script, asp.net and Excel, and development of tutorials or other “how-to” resources that support the developed applications; and (7) demonstrated ability to research materials in support of this type of project.

All resource products developed must comply with Section 508 Standards for Accessibility. (http://section508.gov).

DATES: Applications must be received by 4 p.m. (EDT) on Friday, June 29, 2012.

ADDRESSES: Mailed applications must be sent to: Director, National Institute of Corrections, 320 First Street NW., Room 5002, Washington, DC 20534. Applicants are encouraged to use Federal Express, UPS, or similar service to ensure delivery by the due date as mail at NIC is sometimes delayed due to security screening.

Applicants who wish to hand deliver their applications should bring them to 500 First Street NW., Washington, DC 20534, and dial 202-307-3106, ext. 0, at the front desk for pickup.

Faxed or emailed applications will not be accepted; however, electronic applications can be submitted via http://www.grants.gov.

FOR FURTHER INFORMATION CONTACT: A copy of this announcement and the required application forms can be downloaded from the NIC Web site at www.nicic.gov/cooperativeagreements.

Questions about this project and the application procedures should be directed to Erika McDuffe, Program Specialist, NIC Jails Division. Questions must be sent via email to Ms. McDuffe at emcduffe@bop.gov. Ms. McDuffe will respond via email to the individual. Also, all questions and responses will be posted on NIC's Web site at www.nicic.gov for public review. (The names of those submitting the questions will not be posted.) The Web site will be updated regularly and postings will remain on the Web site until the closing date of this cooperative agreement solicitation.

SUPPLEMENTARY INFORMATION: Background: Local corrections facilities vary widely in size, geographic location, funding levels, operational philosophy, and design. Nonetheless, most corrections administrators make the same types of decisions critical to their operations, the safety and security of inmates/offenders and staff, and the responsible use of resources. For example, corrections administrators must make decisions related to: Resource needs; budget projections and requests; inmate/client population management (types and numbers of inmates/clients housed/enrolled, length of stay, average daily population); staffing levels, and; corrections activities and programs. It is not uncommon, however, for these and other decisions to be made in the absence of key data. Many corrections agencies do not have staff dedicated to data collection and analysis, information system management, or information technology. Given that many corrections agencies have severely limited resources, they are unlikely to acquire such staff. Corrections staff assigned to other duties usually do not have expertise in this area or the time to develop it.

Scope of Work: To develop the corrections data collection and analysis resources, the awardee will complete the following activities:

Meet With NIC Staff

The awardee will meet with NIC staff for a project kick-off meeting shortly after receiving the award. Meeting participants will review all aspects of the project, further refine the list of topics that will be included in the resources for NIC Web site, and review all requirements related to cooperative agreement processes. This meeting will last up to 2 days and will be conducted at NIC's offices in Washington, DC.

The awardee should plan at least 2 more face-to-face meetings with NIC staff. These meetings will be up to 2 days long and held in Washington, DC. Web-Ex meetings will be planned during critical development points in the project. Awardee must have Web-Ex capabilities.

Research Materials

Based on the refined list of topics to be included on the NIC Web site, the awardee will research related materials in partnership with the NIC Information Center for inclusion on the Web site. As part of this task, the awardee will review documents or other web-based resources for applicability and appropriate use on the Web site. In many cases NIC will provide the resources for review. However, it is expected that the awardee will identify documents and other resources for the review. Original writing is required to provide a brief summary or annotation of recommended documents or materials.

Develop Informational Materials

The awardee will identify those topics for which they could find no suitable materials. NIC will determine how best to address the issue after discussion with the awardee.

Develop Data Applications for Data Analysis and Statistical Reporting

These data applications will provide users with the capabilities to enter their own data and review the results in graphs or charts (a corrections dashboard). During the initial planning session and after research about available resources, the type and number of applications will be discussed. We anticipate that 3-5 of these applications will be developed initially.

Examples of possible data applications include: (1) Correctional Population Trends—Tracks daily number of inmates by categories gender, age, race, sentencing stats, Average Daily Population, Average length of stay, primary charge; (2) Staff Trends—Tracks number of staff post, number of employees, vacancies, types of leave, overtime usage; (3) Budget Status—Tracks budgets by standard categories, obligations, expenditures and balance; (4) Program Attendance—Tracks types of programs, enrollments and completions; (5) Incident Reports—Tracks daily incidents by categories like major, minor, reported and confirmed sexual assaults.

Develop Tutorials and “How To” Resources

Brief tutorials will be developed to demonstrate the use of the statistical reporting applications. These segments will be specific to the applications and provide guidelines for appropriate data gathering and quality assurance of data collected.

Pilot the Applications

Working with NIC's Information Center, Jails Division Staff and a pilot corrections facility chosen by NIC, the awardee will pilot the applications and tutorials to demonstrate its capabilities and usefulness.

Deploy the Applications

After successful pilot of the applications and tutorials, they will be deployed from the NIC Web site. The applications may also be distributed via CD or mobile application. The awardee will provide assistance for the developed applications and tutorials for the first 30 days of deployment on NIC's Web site. The awardee will be responsible for any technical issues resulting from development of the applications and supporting tutorials.

Provide Ongoing Review of the Web Site Content

In conjunction with the NIC Information Center and the Jails Division, during the term of the award, the awardee will provide continuous review of the Web site content as it is added to the site. It is expected that content (other than the applications under development) will be added regularly and that the awardee will provide reviews and recommendations to address any issues.

Application Requirements: An application package must include OMB Standard Form 425, Application for Federal Assistance; a cover letter that identifies the audit agency responsible for the applicant's financial accounts as well as the audit period or fiscal year under which the applicant operates (e.g., July 1 through June 30); and an outline of projected costs with the budget and strategy narratives described in this announcement. The following additional forms must also be included: OMB Standard Form 424A, Budget Information—Non-Construction Programs; OMB Standard Form 424B, Assurances—Non-Construction Programs (both available at www.grants.gov); DOJ/FBOP/NIC Certification Regarding Lobbying, Debarment, Suspension and Other Responsibility Matters; and the Drug-Free Workplace Requirements (available at www.nicic.org/Downloads/PDF/certif-frm.pdf.)

Applications should be concisely written, typed double spaced, and reference the NIC opportunity number and title referenced in this announcement. If you are hand delivering or submitting via Fed-Ex, please include an original and three copies of your full proposal (program and budget narrative, application forms, assurances and other descriptions). The original should have the applicant's signature in blue ink. Electronic submissions will be accepted only via www.grants.gov.

The narrative portion of the application should include, at a minimum: A brief paragraph indicating the applicant's understanding of the project's purpose; a brief paragraph that summarizes the project goals and objectives; a clear description of the methodology that will be used to complete the project and achieve its goals; a statement or chart of measurable project milestones and timelines for the completion of each milestone; a description of the qualifications of the applicant organization; a resume for the principal and each staff member assigned to the project (including developers) that documents relevant knowledge, skills, and abilities to carry out the project; and a budget that details all costs for the project, shows consideration for all contingencies for the project, and notes a commitment to work within the proposed budget.

In addition to the narrative and attachments, the applicant must submit a simple example of a proposed downloadable statistical analysis tool and slides representing a tutorial segment based on that tool.

Authority: Public Law 93-415.

Funds Available: NIC is seeking the applicant's best ideas regarding accomplishment of the scope of work and the related costs for achieving the goals of this solicitation. Funds may be used only for the activities that are linked to the desired outcome of the project. The funding amount should not exceed $135,000.00.

Eligibility of Applicants: An eligible applicant is any state or general unit of local government, private agency, educational institution, organization, individual, or team with expertise in the described areas. Applicants must have demonstrated ability to implement a project of this size and scope.

Review Considerations: Applications will be subject to the NIC review process. The criteria for the evaluation of each application will be as follows:

Project Design and Management (40%)

Is there a clear understanding of the purpose of the project and the nature and scope of project activities? Does the applicant give a clear and complete description of all work to be performed for this project? Does the applicant clearly describe a work plan, including objectives, tasks, and milestones necessary to project completion? Are the roles and the time required of project staff clearly defined?

Applicant Organization and Project Staff Background (40%)

Is there a description of the background and expertise of all project personnel as they relate to this project? Does the applicant have an established reputation or skill that makes the applicant particularly well qualified for the project? Do primary project personnel, individually or collectively, have in-depth knowledge of the purpose, functions, and operational complexities of local corrections agencies? Do the primary project personnel, individually or collectively, have expertise and experience specified in the “Summary” section of this Request for Proposal?

Budget (20%)

Does the application provide adequate cost detail to support the proposed budget? Does the application include a chart that aligns the budget with project activities along a timeline with, at minimum, quarterly benchmarks? In terms of program value, is the estimated cost reasonable in relation to work performed and project products?

Note: NIC will NOT award a cooperative agreement to an applicant who does not have a Dun and Bradstreet Database Universal Number (DUNS) and is not registered in the Central Contractor Registry (CCR). Applicants can obtain a DUNS number at no cost by calling the dedicated toll-free DUNS number request line at 800-333-0505. Applicants who are sole proprietors should dial 866-705-5711 and select option #1.

Applicants may register in the CCR online at the CCR Web site at www.ccr.gov. Applicants can also review a CCR handbook and worksheet at this Web site.

Number of Awards: One.

NIC Opportunity Number: 12JA04. This number should appear as a reference line in the cover letter, where the opportunity number is requested on Standard Form 424, and on the outside of the envelope in which the application is sent.

Catalog of Federal Domestic Assistance Number: 16.601.

Executive Order 12372: This project is not subject to the provisions of the executive order.

Morris L. Thigpen,
Director, National Institute of Corrections.

[FR Doc. 2012-13411 Filed 6-1-12; 8:45 am]

BILLING CODE 4410-36-P